SMALL BUSINESS ADMINISTRATION

[Disaster Declaration #15896 and #15897; NEBRASKA Disaster Number NE-00073]

Presidential Declaration Amendment of a Major Disaster for the State of Nebraska

AGENCY: U.S. Small Business Administration.

ACTION: Amendment 8.

SUMMARY: This is an amendment of the Presidential declaration of a major disaster for the State of NEBRASKA (FEMA-4420-DR), dated 03/21/2019.

Incident: Severe Winter Storm, Straight-line Winds, and Flooding.

Incident Period: 03/09/2019 through 07/14/2019.

DATES: Issued on 03/21/2019.

Physical Loan Application Deadline Date: 09/13/2019.

Economic Injury (EIDL) Loan Application Deadline Date: 12/23/2019.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of NEBRASKA, dated 03/21/2019, is hereby amended to extend the deadline for filing applications for physical damages as a result of this disaster to 09/13/2019.

All other information in the original declaration remains unchanged.

(Catalog of Federal Domestic Assistance Number 59008)

James Rivera.
Associate Administrator for Disaster Assistance.

[FR Doc. 2019-17929 Filed 8-19-19; 8:45 am]

BILLING CODE 8026-03-P